Title 3—

The President

Proclamation 7818 of September 20, 2004

National Farm Safety and Health Week, 2004

By the President of the United States of America

A Proclamation

America's farm economy is strong and growing. Farm income is strong, farm exports are at a record high, and my Administration is working to ensure that American farm products are sold all over the world. During National Farm Safety and Health Week, we reflect on the contributions of America's farm and ranch families and underscore our commitment to making our farms safer and to protecting our farm and ranch land.

The safety and health of our farm and ranch families are of critical importance. These Americans perform tasks that contain risks—they operate farm machinery, apply agricultural chemicals and fertilizers, handle large and unpredictable livestock, and work in places where dusts and toxins can contaminate the air. We must continue to raise awareness of dangers and proper safety precautions and equipment, particularly among our young people involved in agriculture. Through education and training, we can help save lives and improve the well-being of our Nation's farmers and ranchers.

Our Nation's farmers and ranchers help feed and clothe people around the world, and they are now helping provide more energy for the American people. By promoting a safer farm and ranch environment, we can strengthen our agricultural economy and build a more prosperous future for all our citizens.

NOW, THEREFORE, I, GEORGE W. BUSH, President of the United States of America, by virtue of the authority vested in me by the Constitution and laws of the United States, do hereby proclaim September 19 through September 25, 2004, as National Farm Safety and Health Week. I call upon the agencies, organizations, and businesses that serve America's agricultural workers to strengthen their commitment to promoting farm safety and health programs. I also urge all Americans to honor our agricultural heritage and to recognize our farmers and ranchers for their remarkable contributions to our Nation's vitality and prosperity.

IN WITNESS WHEREOF, I have hereunto set my hand this twentieth day of September, in the year of our Lord two thousand four, and of the Independence of the United States of America the two hundred and twenty-ninth.

B

[FR Doc. 04-21506

Filed 9-22-04; 8:45 am]

Billing code 3195-01-P